DEPARTMENT OF TRANSPORTATION

Coast Guard

33 CFR Part 117

[CGD01-00-234]

RIN 2115-AE47

Drawbridge Operation Regulations: Fort Point Channel, MA

AGENCY: Coast Guard, DOT.

ACTION: Final rule.

SUMMARY: The Coast Guard is changing the drawbridge operating regulations for the Northern Avenue Bridge, mile 0.1, across the Fort Point Channel at Boston, Massachusetts. This rule will revise the drawbridge operating regulations to provide bridge openings during times the bridge previously did not open and also place the bridge on an advance notice basis during times when there have been few requests to open the bridge. This action is expected to better meet the present needs of navigation.

DATES: This rule is effective March 22, 2001.

ADDRESSES: Comments and material received from the public, as well as documents indicated in this preamble as being available in the docket, are part of docket (CGD01-00-234) and are available for inspection or copying at the First Coast Guard District, Bridge Branch Office, 408 Atlantic Avenue, Boston, Massachusetts 02110, 7 a.m. to 3 p.m., Monday through Friday, except Federal holidays.

FOR FURTHER INFORMATION CONTACT: Mr. John W. McDonald, Project Officer, First Coast Guard District, (617) 223-8364.

SUPPLEMENTARY INFORMATION:

Regulatory Information

On November 8, 2000, we published a notice of proposed rulemaking (NPRM) entitled Drawbridge Operation Regulations; Fort Point Channel, Massachusetts, in the Federal Register (65 FR 66939). We received six comment letters in response to the notice of proposed rulemaking. All the comment letters were in favor of the rule change. No public hearing was requested and none was held.

Background and Purpose

The Northern Avenue Bridge, mile 0.1, across the Fort Point Channel has a vertical clearance of 7 feet at mean high water and 17 feet at mean low water in the closed position. The existing operating regulations in 33 CFR 117.599 require the bridge to open on signal from 6 a.m. to 8 p.m. From 8 p.m. to 6 a.m., the bridge need not open for the passage of vessels. The Coast Guard received a request to change the operating regulations from a commercial tour boat operator and the mariners located at a marina upstream from the Northern Avenue Bridge. The mariners requested that the bridge be crewed and available to open for vessel traffic after 8 p.m. during the boating season. The bridge presently does not open from 8 p.m. to 6 a.m., daily.

The Coast Guard published a notice of temporary deviation and request for comments on April 27, 2000, in order to test an expanded operating schedule for the bridge and to provide immediate relief for the mariners during the summer of 2000. The deviation required the bridge to open on signal from 6 a.m. to 8 p.m. and from 8 p.m. to 6 a.m. to open on signal if at least a two-hour advance notice was provided by calling the number posted at the bridge. The Coast Guard received four letters in favor of expanding the operating hours for the bridge. After the comment period for the deviation concluded on September 30, 2000, the Coast Guard had discussions regarding the expansion of the operating hours for the bridge with officials from the City of Boston, the owner of the bridge. As a result of these discussions, the bridge owner agreed to crew the bridge additional hours as well as provide openings on an advance notice basis during times when the bridge is not crewed. The following schedule was established:

From May 1 through October 31, the draw shall open on signal from 7 a.m. to 11 p.m. From 11 p.m. to 7 a.m. the draw shall open on signal if at least a two-hour advance notice is given by calling the number posted at the bridge.

From November 1 through April 30, the draw shall open on signal from 7 a.m. to 3 p.m. From 3 p.m. to 7 a.m. the draw shall open on signal if at least a twenty-four hours advance notice is given by calling the number posted at the bridge.

The Coast Guard believes this is a reasonable operating schedule because the mariners will now be able to get bridge openings during the times the bridge is crewed or upon the required advance notice, and the bridge owner will not be required to crew the bridge during periods when there have been few requests to open the bridge.

Discussion of Comments and Changes

The Coast Guard received six comment letters all in favor of the rule change. No changes will be made to the final rule.

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040; February 26, 1979). This conclusion is based on the fact that the bridge will be crewed at times to meet the needs of navigation and will be on an advance notice basis during the times when there have been few requests to open the bridge.

Small Entities

Under the Regulatory Flexibility Act (5 U.S.C. 601-612) we considered whether this rule would have a significant economic impact on a substantial number of small entities. “Small entities” comprises small businesses, not-for profit organizations that are independently owned and operated and are not dominant in their fields, and governmental jurisdictions with populations less than 50,000.

The Coast Guard certifies under 5 U.S.C. 605(b) that this rule will not have a significant economic impact on a substantial number of small entities. This conclusion is based on the fact that the bridge will be crewed at times to meet the needs of navigation and will be on an advance notice basis during the times when there have been few requests to open the bridge.

Collection of Information

This rule calls for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under E.O. 12630, Governmental Actions and Interference with Constitutionally Protected Property Rights

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or risk to safety that may disproportionately affect children.

Environment

The Coast Guard considered the environmental impact of this rule and concluded that under figure 2-1, paragraph (32)(e) of Commandant Instruction M16475.1C, this rule is categorically excluded from further environmental documentation because promulgation of changes to drawbridge regulations have been found to not have a significant effect on the environment. A written “Categorical Exclusion Determination” is not required for this final rule.

List of Subjects in 33 CFR Part 117

Bridges.

Regulations

For the reasons set out in the preamble, the Coast Guard amends 33 CFR part 117 as follows:

PART 117—DRAWBRIDGE OPERATION REGULATIONS

1. The authority citation for part 117 continues to read as follows:

Authority: 33 U.S.C. 499; 49 CFR 1.46; 33 CFR 1.05-1(g); section 117.255 also issued under the authority of Pub. L. 102-587, 106 Stat. 5039.

2. Section 117.599 is revised to read as follows:

§ 117.599 Fort Point Channel.

The draw of the Northern Avenue Bridge, mile 0.1, at Boston, shall operate as follows:

(a) From May 1 through October 31, the draw shall open on signal from 7 a.m. to 11 p.m. From 11 p.m. to 7 a.m. the draw shall open on signal if at least a two-hour advance notice is given by calling the number posted at the bridge.

(b) From November 1 through April 30, the draw shall open on signal from 7 a.m. to 3 p.m. From 3 p.m. to 7 a.m. the draw shall open on signal if at least a twenty-four hours advance notice is given by calling the number posted at the bridge.

Dated: January 31 2001.
G.N. Naccara,
Rear Admiral, U.S. Coast Guard, Commander, First Coast Guard District.

[FR Doc. 01-4096 Filed 2-16-01; 8:45 am]

BILLING CODE 4910-15-P